DEPARTMENT OF ENERGY

Federal Energy Regulatory Commission

Sunshine Act Meeting; Notice

September 14, 2006.

The following notice of meeting is published pursuant to section 3(a) of the government in the Sunshine Act (Pub. L. No. 94-409), 5 U.S.C 552b:

Agency Holding Meeting: Federal Energy Regulatory Commission.

Date and Time: September 21, 2006, 10 a.m.

Place: Room 2C, 888 First Street, NE., Washington, DC 20426.

Status: Open.

Matters to be Considered: Agenda.

Note: Items listed on the agenda may be deleted without further notice.

Contact person for more Information: Magalie R. Salas, Secretary; Telephone (202) 502-8400. For a recorded listing item stricken from or added to the meeting, call (202) 502-8627.

This is a list of matters to be considered by the Commission. It does not include a listing of all papers relevant to the items on the agenda; however, all public documents may be examined in the Public Reference Room.

908th Meeting—Regular Meeting; September 21, 2006—10 a.m.
Item No. | Docket No. | Company
Administrative Agenda
A-1 | AD02-1-000 | Agency Administrative Matters.
A-2 | AD02-7-000 | Customer Matters, Reliability, Security and Market Operations.
A-3 | AD06-3-000 | Energy Market Update.
Electric
E-1 | ER06-615-000, ER02-1656-027, ER02-1656-029, ER02-1656-030, ER02-1656-031 | California Independent System Operator, Corporation.
E-2 | EC06-129-000 | Capital Research and Management Company, AMCAP Fund, Inc., American Balanced Fund, Inc., American High-Income Trust, American Mutual Fund, Inc., Capital Income Builder, Inc., Capital World Bond Fund, Inc., Capital World Growth and Income Fund, Inc., EuroPacific Growth Fund, Fundamental Investors, Inc., New Perspective Fund, Inc., New World Fund, Inc., SMALLCAP World Fund, Inc., The Bond Fund of America, Inc., The Growth Fund of America, Inc., The Income Fund of America, Inc., The Investment Company of America, The New Economy Fund, Washington Mutual Investors Fund, Inc., American Funds Insurance Series Endowments, Capital International Global Discovery, Capital International Global Equity, Capital International Funds—European Equity Investors, Capital International Funds—U.S. Equity Investors.
E-3 | EC06-123-000 | ITC Holdings Corp., International Transmission Company, Michigan Transco Holdings, Limited Partnership, Michigan Electric Transmission Company, LLC., Trans-Elect NTD Path 15, LLC.
E-4 | ER06-18-000, ER08-18-001, ER06-18-002, ER06-18-003 | Midwest Independent Transmission System Operator, Inc.
E-5 | ER03-765-001 | Calpine Oneta Power, L.P.
E-6 | ER04-961-006, ER04-961-007 | Midwest Independent Transmission System Operator, Inc.
E-7 | ER06-451-001 | Southwest Power Pool, Inc.
E-8 | ER91-569-032, ER91-569-033, ER91-569-034, ER91-569-035, ER01-666-007, ER01-666-008, ER01-1675-005, ER01-1675-006, ER01-1804-006, ER01-1804-007, ER02-862-007, ER02-862-008, EL04-123-000, EL04-123-006, EL05-105-000, EL05-105-004 | Entergy Services, Inc.
E-9 | Omitted
E-10 | ER05-1065-001 | Entergy Services, Inc.
E-11 | TX06-1-000 | Louisiana Energy and Power Authority.
E-12 | ER03-583-000, ER03-583-001, ER03-583-002, ER03-583-004 | Entergy Services, Inc. and EWO Marketing, L.P.
| ER03-681-000, ER03-681-001, ER03-681-003 | Entergy Services, Inc. and Entergy Power, Inc.
| ER03-682-000, ER03-682-001, ER03-682-002, ER03-682-004 | Entergy Services, Inc. and Entergy Power, Inc.
| ER03-744-000, ER03-744-001, ER03-744-002 | Entergy Services, Inc. and Entergy Louisiana, Inc.
E-13 | EC06-140-000, EL06-86-000 | Edison Electric Institute on Behalf of the Jurisdictional Signatories to the Spare Transformer Sharing Agreement.
E-14 | ER06-1112-000 | Midwest Independent Transmission System Operator, Inc.
E-15 | ER04-157-004 | Bangor Hydro-Electric Company, Central Maine Power Company, NSTAR Electric & Gas Corporation, New England Power Company, Northeast Utilities Service Company, The United Illuminating Company and Vermont Electric Power Company.
| ER04-714-001 | Florida Power & Light Company—New England Division.
E-16 | EF06-2011-000 | United States Department of Energy—Bonneville Power Administration.
E-17 | EC06-133-000 | Calpine Fox LLC,Fox Energy Company LLC.
E-18 | ER06-1094-005 | Baconton Power LLC.
| ER06-1094-006 | SOWEGA Power LLC.
E-19 | ER06-1094-008 | Unitil Companies.
E-20 | ER05-6-044, ER05-6-054, ER05-6-055 | Midwest Independent Transmission System Operator, Inc.
| EL04-135-046, EL04-135-056, EL04-135-057 | Midwest Independent Transmission System Operator, Inc. and PJM Interconnection, L.L.C.
| EL02-111-064 , EL02-111-074 , EL02-111-075 | Midwest Independent Transmission System Operator, Inc. and PJM Interconnection, L.L.C.
| EL03-212-060 , EL03-212-070, EL03-212-071 | Ameren Services Company.
E-21 | ER02-1656-024 | California Independent System Operator Corporation.
E-22 | ER02-136-007 , ER02-136-008 | Allegheny Power.
E-23 | ER01-2214-007 | Entergy Services, Inc.
E-24 | PH06-48-000 | Legg Mason, Inc.
E-25 | Omitted
E-26 | Omitted
E-27 | OA06-5-000 | Alcoa Power Generating, Inc. (Long Sault Division).
E-28 | EL05-50-002 | Jersey Central Power & Light Company v. Atlantic City Electric Company, Delmarva Power & Light Company, PECO Energy Company and Public Service Electric and Gas Company.
E-29 | RM05-5-002 | Standards for Business Practices and Communication Protocols for Public Utilities.
E-30 | EL05-52-001 | Entergy Services, Inc.
E-31 | Omitted
E-32 | Omitted
E-33 | ER05-1065-002 | Entergy Services, Inc.
Miscellaneous
M-1 | RM06-23-000 | Critical Energy Infrastructure Information.
M-2 | RM06-24-000 | Critical Energy Infrastructure Information.
Gas
G-1 | RP01-503-004 ,RP01-503-002,RP01-503-003 | Natural Gas Pipeline Company of America.
G-2 | RP06-391-000 | USGen New England, Inc.
G-3 | Omitted
Hydro
H-1 | PL06-5-000 | Settlements in Hydroelectric Licensing Proceedings under Part I of the Federal Power Act.
Certificates
C-1 | CP06-64-000 ,CP06-64-001 | Central New York Oil & Gas Company, LLC.
C-2 | CP06-354-000 | Rockies Express Pipeline LLC.
C-3 | Omitted
C-4 | CP05-361-000 | Freeport LNG Development, L.P.

Magalie R. Salas,
Secretary.

A free Webcast of this event is available through http://www.ferc.gov. Anyone with Internet access who desires to view this event can do so by navigating to www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Perkowski or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 06-8061 Filed 9-19-06; 12:20 pm]

BILLING CODE 6717-01-P